DEPARTMENT OF COMMERCE

Foreign-Trade Zones Board

[B-48-2015]

Foreign-Trade Zone 87—Lake Charles, Louisiana; Application for Subzone; Sasol Chemicals (USA), LLC; Calcasieu Parish, Louisiana

An application has been submitted to the Foreign-Trade Zones (FTZ) Board by the Lake Charles Harbor & Terminal District, grantee of FTZ 87, requesting subzone status for the facilities of Sasol Chemicals (USA), LLC, located in Calcasieu Parish, Louisiana. The application was submitted pursuant to the provisions of the Foreign-Trade Zones Act, as amended (19 U.S.C. 81a-81u), and the regulations of the FTZ Board (15 CFR part 400). It was formally docketed on July 28, 2015.

The proposed subzone would consist of the following sites: Site 1 (36.5 acres)—1130 Miller Avenue in Westlake; Site 2 (1,478.5 acres)—2201 Old Spanish Trail in Westlake; and, Site 3 (10 acres)—two parcels located near the eastern end of Louis Alleman Parkway in Sulphur. No authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is September 14, 2015. Rebuttal comments in response to material submitted during the foregoing period may be submitted during the subsequent 15-day period to September 28, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: July 28, 2015.
Andrew McGilvray,
Executive Secretary.

[FR Doc. 2015-18989 Filed 7-31-15; 8:45 am]

BILLING CODE 3510-DS-P